DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2010, there were two applications approved. This notice also includes information on one application, approved in July 2010, inadvertently left off the July 2010 notice. Additionally, three approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Puerto Rico Ports Authority, San Juan, Puerto Rico.

Application Number: 09-06-C-00-SJC.

Application Type: Impose and use a PFC.

PFC Level: $3.00.

Total PFC Revenue Approved in This Decision: $19,713,152.

Earliest Charge Effective Date: August 1, 2031.

Estimated Charge Expiration Date: March 1, 2033.

Class of Air Carriers Not Required To Collect PFCs: None.

Brief Description of Project Approved for Collection at Luis Munoz Marin International Airport (SJU) and Use at SJU at a $3.00 PFC Level: PFC application development.

Brief Description of Projects Approved for Collection at SJU and Use at Jose Aponte de la Torre Airport at a $3.00 PFC Level:

Phase 0 construction—terminal facility.

Rehabilitation of airfield guidance signage.

Rehabilitation of taxiway lighting system.

Pavement rehabilitation of runway 7/25 and taxiways.

Airfield pavement markings.

Decision Date: July 22, 2010.

For Further Information Contact: Susan Moore, Orlando Airports District Office, (407) 812-6331.

Public Agency: Port of Bellingham, Bellingham, Washington.

Application Number: 10-11-C-00-BLI.

Application Type: Impose and use a PFC.

Total PFC Revenue Approved in This Decision: $30,250,000.

PFC Level: $4.50.

Earliest Charge Effective Date: October 1, 2010.

Estimated Charge Expiration Date: October 1, 2027.

Class of Air Carriers Not Required To Collect PFCs: None.

Brief Description of Project Approved for Collection and Use: Commercial terminal expansion.

Decision Date: August 11, 2010.

For Further Information Contact: Trang Tran, Seattle Airports District Office, (425) 227-1662.

Public Agency: City of Lubbock, Texas.

Application Number: 10-07-C-00-LBB.

Application Type: Impose and use a PFC.

Total PFC Revenue Approved in This Decision: $13,101,351.

PFC Level: $4.50.

Earliest Charge Effective Date: December 1, 2013.

Estimated Charge Expiration Date: April 1, 2020.

Classes of Air Carriers Not Required To Collect PFCs: (1) Part 135 air taxi/commercial operators filing FAA Form 1800-31; (2) commuters and small certificated air carriers filing Department of Transportation Research and Special Programs Administration (RSPA) Form T-100 for non-scheduled enplanements; and (3) large certificated route air carriers filing RSPA Form T-100 for non-scheduled enplanements.

Determination: Approved. Based on information contained in the public agency's application, the FAA has determined that each proposed class accounts for less than 1 percent of the total annual enplanements at Lubbock-Preston Smith International Airport.

Brief Description of Projects Approved for Collection and Use:

Runway 8/26 improvements—phase I

Runway 8/26 improvements—phase II.

Replace passenger loading bridges.

Decision Date: August 12, 2010.

For Further Information Contact: Steven Cooks, Texas Airports Development Office, (817) 222-5600.

Amendments to PFC Approvals:

Amendment No. City, State | Amendment approved date | Original approved net PFC revenue | Amended approved net PFC revenue | Original estimated charge exp. date | Amended estimated charge exp. date
98-05-C-05-MCO Orlando, FL | 08/03/10 | $119,178,876 | $114,471,533 | 10/01/00 | 10/01/00
06-06-C-02-SAV Savannah, GA | 08/04/10 | 4,480,700 | 4,490,100 | 03/01/13 | 03/01/13
03-04-C-03-PIH Pocatello, ID | 08/10/10 | 294,313 | 302,926 | 04/01/08 | 04/01/08

Issued in Washington, DC on September 3, 2010.
Joe Hebert,
Manager, Financial Analysis and Passenger Facility Charge Branch.

[FR Doc. 2010-22959 Filed 9-15-10; 8:45 am]

BILLING CODE 4910-13-M